DEPARTMENT OF LABOR

Employment and Training Administration

[SGA/DFA-PY-08-08]

Solicitation for Grant Applications (SGA)

AGENCY: Employment and Training Administration (ETA), Labor.

ACTION: Notice: Amendment to SGA/DFA-PY-08-08.

SUMMARY: The Employment and Training Administration published a document in the Federal Register on October 3, 2008, announcing the availability of funds and solicitation for grant applications (SGA) to fund Demonstration Projects. This notice is an amendment to the SGA and it amends the “Necessary Project Components” section.

FOR FURTHER INFORMATION CONTACT: B. Jai Johnson, Grant Officer, Division of Federal Assistance, at (202) 693-3296.

Supplementary Information Correction: In the Federal Register of October 03, in FR Doc. E8-8651. On page 57672, under the heading, “Part I. Background Information” specifically under paragraph “4. Necessary Project Components.” is amended to read: The minimum number of young parents the applicant must serve over the three year period of the grant is 100. These individuals must be new clients to the program. Because of the requirement of random assignment under the grant, 50 percent of the young parents would receive “bump-up” services under the grant and 50 percent of the young parents would receive control group services (50 treatment group members and 50 control group members given a program enrollment of 100). Please note that this number is a minimum, greater numbers are encouraged. Applicants must justify their existing program can serve this minimum number of individuals under the grant by describing their program enrollment size over the past 3-5 years. If the application does not propose serving at least 100 individuals under this program, the application will not be considered.

DATES: Effective Date: This notice is effective November 3, 2008.

Signed at Washington, DC, this 27th day of October 2008.
James W. Stockton,
Grant Officer.

[FR Doc. E8-26057 Filed 10-31-08; 8:45 am]

BILLING CODE 4510-FT-P